DEPARTMENT OF TRANSPORTATION

Federal Railroad Administration

[Docket No. FRA 2015-0007-N-23]

Proposed Agency Information Collection Activities; Comment Request

AGENCY: Federal Railroad Administration (FRA), Department of Transportation (DOT).

ACTION: Notice.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than November 20, 2015.

ADDRESSES: Submit written comments on any or all of the following proposed activities by mail to Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB Grant Awards and Cooperative Agreement.” Alternatively, comments may be transmitted via facsimile to (202) 493-6170, or via email to Ms. Toone at kim.toone@dot.gov. Please refer to the assigned OMB control number in any correspondence submitted. FRA will summarize comments received in response to this notice in a subsequent notice and include them in its information collection submission to OMB for approval.

FOR FURTHER INFORMATION CONTACT: Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, sec. 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the information collection activities that FRA will submit for clearance by OMB as required under the PRA:

Title: Grant Awards and Cooperative Agreements.

Abstract: FRA solicits grant applications for viable projects including, but not limited to, preconstruction planning activities, safety improvements, congestion relief, improvement of grade crossings, rail line relocation, as well as projects that encourage development, expansion, and upgrades to passenger and freight rail infrastructure and services. Funded projects are those that meet FRA and government wide evaluation standards and align with the President's key strategic transportation goals to create safe and efficient transportation choices, build a foundation for economic competitiveness, promote energy efficiency and environmental quality, and support interconnected livable communities.

FRA administers award agreements for both construction and non-construction projects that will result in service benefits or other tangible improvements in rail corridors. These projects include completion of preliminary engineering, environmental research and development, final design, and construction.

To ensure accountability of Federal award recipients through performance and results, including expenditures in support of agreed-upon activities and allowable costs outlined in a FRA Notice of Grant Award (NGA), FRA requires systematic and uniform collection and submission of information, as approved by the OMB. Included in this information collection are reports and documentation mandated by OMB for completion, as well as additional resources to compile evidence relevant to addressing FRA's important policy challenges, promoting cost-effectiveness in FRA programs, and providing effective oversight of programmatic and financial performance. This justification draws on innovative FRA program designs to use sophisticated practices in delivering Federal financial assistance and encourage continuous improvements in service delivery.

FRA issues and manages awards in compliance with Title 2 of the Code of Federal Regulations (CFR): Grants and Agreements. This justification includes one document package for collection over the entire lifecycle of the award process, in adherence to the Uniform Administrative Requirements, Cost Principles, and Audit Requirements for Federal Awards (78 FR 78589, Dec. 26, 2013; 79 FR 75871, Dec. 19, 2014). All non-research awards are subject to the application, reporting, closeout, and other processes described in this justification.

Additionally, the collection detailed in this justification represents a combination of previous FRA collection requests, including: OMB Control Number 2130-0578, OMB Control Number 2130-0580, OMB Control Number 2130-0584, and OMB Control Number 0587. Combining these collections under a new collection enables FRA to consolidate documentation under one collection, which allows for efficiency and provides a uniform period until expiration of this justification request.

Form Number(s): FRA forms 30, 31, 32, 33, 34, 35, and 229. SF forms 270, 424, 424A, 424B, 424C, 424D, 425, and LLL.

Affected Public: State and local governments, government sponsored authorities and corporations, and railroads.

Reporting Burden:

Item | Total annual responses | Average time per response (hours) | Total annual burden hours
FRA Form 30 | 383 | .25 | 95.75
FRA Form 31 | 1 | 212 | 212
FRA Form 32 | 1 | 24 | 24
FRA Form 33 | 8 | 79 | 632
FRA Form 34 | 2 | 897 | 1,794
FRA Form 35 | 34 | 383 | 13,022
FRA Form 229 | 18 | .25 | 4.5
Additional Buy America Documentation | 1 | 19,944.50 | 19,944.50
SF Form 270 | 1 | 716 | 716
SF Form 424 | 1.1 | 383 | 421.30
SF Form 424A | 3 | 192 | 576
SF Form 424B | .25 | 192 | 48
SF Form 424C | 3 | 191 | 573
SF Form 424D | .25 | 191 | 47.75
SF 425 | 1.5 | 897 | 1,345
SF Form LLL | .17 | 383 | 65.11
* In minutes.

Total Estimated Annual Burden: 39,521 hours.

Pursuant to 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Rebecca Pennington,
Chief Financial Officer.

[FR Doc. 2015-23620 Filed 9-18-15; 8:45 am]

BILLING CODE 4910-06-P